DEPARTMENT OF THE INTERIOR

Fish and Wildlife Service

[FWS-R1-R-2011-N100; 1265-0000-10137-S3]

Kootenai National Wildlife Refuge, Boundary County, ID; Draft Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Kootenai National Wildlife Refuge (NWR, refuge) for public review and comment. The Draft CCP/EA describes our proposal for managing the refuge for the next 15 years.

DATES: To ensure consideration, we need to receive your written comments by September 12, 2011.

ADDRESSES: You may submit comments, requests for more information, or requests for copies by any of the following methods. You may request a hard copy or a CD-ROM of the documents.

E-mail: FW1PlanningComments@fws.gov. Include “Kootenai NWR CCP” in the subject line.

Fax: Attn: Dianna Ellis, Refuge Manager, (208) 267-3888.

U.S. Mail: Dianna Ellis, Refuge Manager, Kootenai National Wildlife Refuge, 287 Westside Road, Bonners Ferry, ID 83805.

Web site: http://www.fws.gov/kootenai/refuge_planning.html; select “Contact Us.”

In-Person Drop-off, Viewing, or Pickup: Call (208) 267-3888 to make an appointment (necessary for viewing/pickup only) during regular business hours at the above address.

FOR FURTHER INFORMATION CONTACT: Dianna Ellis, Refuge Manager, (208) 267-3888.

SUPPLEMENTARY INFORMATION:

Introduction

With this notice, we continue the CCP process for Kootenai National Wildlife Refuge. We started this process through a notice in the Federal Register (74 FR 8102; February 23, 2009).

Kootenai NWR encompasses 2,774 acres along the lower Kootenai River in Boundary County, ID. Habitat types on the refuge include seasonal, semipermanent, and permanent wetlands; floodplain forests; coniferous forests; managed pastures; and croplands. The refuge was established “for use as an inviolate sanctuary, or for any other management purpose, for migratory birds.” The refuge provides important habitat for waterbirds, migratory landbirds, and raptors; a variety of mammals including white-tailed deer, elk, and moose; and bull trout, which is listed as a threatened species under the Federal Endangered Species Act.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Public Outreach

We began public outreach by distributing Planning Update 1 to our mailing list and public outlets in January 2009. On January 23, 2009, we held two public scoping meetings in Bonners Ferry, Idaho, to meet the public and obtain comments. The meetings were announced through local media outlets, on the refuge's Web site, and in Planning Update 1. We published a Notice of Intent in the Federal Register announcing our intent to prepare a CCP/EA and inviting public comments. The public scoping period ended on March 25, 2009, and all comments were considered and evaluated. In June 2009, we distributed Planning Update 2, which included a summary of the comments we received, a planning schedule, and a description of the CCP's scope. In July 2010, we distributed Planning Update 3; in it we summarized our preliminary draft alternatives and requested public comments.

CCP Alternatives We Are Considering

During the public scoping process, we, along with other governmental partners, Tribes, and the public raised several issues which our Draft CCP addresses. A full description of each CCP alternative will be in the EA. To address these issues, we developed and evaluated the following alternatives, summarized below:

Alternative 1 (No-Action)

Under Alternative 1, the refuge would continue to manage wetlands, croplands, and grasslands for migratory waterfowl, shorebirds, deer, and elk. Two hundred acres of grain crops would be grown annually. Riparian and forest habitat would be maintained. Minimal management of instream habitat would occur. Waterfowl hunting would continue on the 740-acre hunt area, 4 days per week, in accordance with the State's season. A 200-yard no-shooting area (91 acres) would continue along the auto tour route to provide for safety. Big game and upland game (grouse) hunting would be allowed on the 295 acres of timber on the west side of Lions Den and Westside Roads. Fishing would be allowed from the banks of Myrtle Creek only. The 4.5-mile auto tour route would remain open year round to vehicles, walking, bicycling, jogging, dog walking (on leash only), cross-country skiing, and snowshoeing as weather and road conditions permit. Slightly over 5 miles of trails would be open to walking, jogging, and dog walking (on leash only) year round, except for Island Pond Trail, which would be closed on hunt days during the waterfowl hunting season. The Environmental Education Center would be available for teacher-led, and occasionally staff-led, programs. This alternative is considered the base from which to compare the action alternatives.

Alternative 2 (Preferred Alternative)

Under Alternative 2, our preferred alternative, wetland, cropland, and grassland management for migratory waterfowl, shorebirds, deer, and elk would continue. Repairs and improvements to the existing water management infrastructure would take place to increase the refuge's ability to manage wetlands. Increased emphasis would be placed on moist soil management. Crop acreage could decrease to 125 acres with an increase in acreage of moist soil wetlands. Existing riparian habitat would be maintained and increased restoration of native riparian and grassland habitats would occur. White-tailed deer and elk populations would be managed, in consultation with the Idaho Department of Fish and Game (IDFG), through special permit hunts in order to protect restored riparian habitat. Wildfires would still be suppressed and forests would be thinned to maintain an open understory and reduce ladder fuels that would allow fire to carry from the forest understory into the canopy. The refuge would work with partners to examine the feasibility of restoring degraded stream habitats for the benefit of native fish. The refuge would initiate a land protection plan study to analyze alternatives for possible refuge boundary expansion to include 120 acres of floodplain owned by the Idaho Department of Lands.

Waterfowl hunting would be permitted 4 days per week, in accordance with the State's season. The waterfowl hunt area would be reduced to 605 acres due to increasing the size of the 200-yard non-shooting area to include the area along the Deep Creek Trail (225 acres) to provide for safety. An additional ADA-accessible blind would be constructed on the north hunt unit. South Pond would be open to hunting from the ADA blind only. The location of fixed blinds and free roam hunt areas would be adjusted as necessary based on habitat quality, waterfowl use of wetlands, and data from hunter surveys. Overall, waterfowl hunting opportunities will be the same as under current management. Big game, upland game (grouse only), and turkey hunting would be allowed west of Lions Den Road (173 acres). Big game and upland game hunting would be discontinued west of Westside Road (122 acres). A special permit hunt for white-tailed deer and elk would be developed, in consultation with IDFG, to reduce damage to riparian vegetation on the refuge flats. Overall, opportunities for big game and upland game hunting would increase compared to current management. Fishing would be allowed from the banks of Myrtle Creek only.

The 4.5-mile auto tour route would remain open year round to vehicles, walking, bicycling, jogging, dog walking (on leash only), cross-country skiing, and snowshoeing as weather and road conditions permit. Wildlife observation, photography, walking, cross-country skiing, and snowshoeing would be allowed on four trails (3.7 miles total) year round, weather permitting. The Island Pond Trail would be closed to reduce disturbance to waterfowl. Environmental education programs would increase.

Alternative 3

Under Alternative 3, actions to protect, maintain, and restore habitat for priority species are the same as under Alternative 2, except that fewer areas would be planted to crops since more acres are managed as moist soil wetlands. The acreage in crops and moist soil would be intermediate between Alternatives 1 and 2.

Waterfowl, big game, upland game, and turkey hunting would be the same as in Alternative 2. As in Alternative 2, special permit hunts for white-tailed deer and elk on the refuge flats would be developed to reduce damage to riparian vegetation. Catch-and-release fishing would be allowed from the banks of Myrtle Creek using single, barbless, non-baited hooks only.

The 4.5-mile auto tour route would remain open year-round to vehicles, walking, bicycling, jogging, dog walking (on leash only), cross-country skiing, and snowshoeing as weather and road conditions permit. Wildlife observation, photography, walking, cross-country skiing, and snowshoeing would be allowed on five trails (4.8 miles total) year round, weather permitting. The Island Pond Trail would be closed, but the 1.1-mile Kootenai River Trail would be reopened. Environmental education programs would increase.

Public Availability of Documents

In addition to the information in ADDRESSES, you can view copies of the Draft CCP/EA on the Internet at http://www.fws.gov/kootenai/refuge_planning.html, and printed copies will be available for review at the following libraries: Boundary County Library, 6370 Kootenai St., Bonners Ferry, ID 83805; Sandpoint Library, 1407 Cedar St., Sandpoint, ID 83864; and Coeur d'Alene Public Library, 702 E. Front Ave., Coeur d'Alene, ID 83814.

Next Steps

After this comment period ends, we will analyze the comments and address them in the final CCP and decision document.

Public Availability of Comments

Before including your address, phone number, e-mail address, or other personal identifying information in your comment, you should be aware that your entire comment—including your personal identifying information—may be made publicly available at any time. While you can ask us in your comment to withhold your identifying information from the public, we cannot guarantee that we will be able to do so.

Dated: June 23, 2011.
Robyn Thorson,
Regional Director, Region 1, Portland, Oregon.

[FR Doc. 2011-19837 Filed 8-8-11; 8:45 am]

BILLING CODE 4310-55-P